DEPARTMENT OF COMMERCE

National Oceanic and Atmospheric Administration

RIN 0648-XA907

Endangered and Threatened Species; Recovery Plans

AGENCY: National Marine Fisheries Service (NMFS), National Oceanic and Atmospheric Administration (NOAA), Commerce.

ACTION: Extension of public comment period.

SUMMARY: On January 5, 2012, NMFS announced the release of the Draft Southern Oregon/Northern California Coast Recovery Plan (Draft Plan) for public review and comment. The Draft Plan addresses the Southern Oregon/Northern California Coast Coho Salmon (Oncorhynchus kisutch) Evolutionarily Significant Unit (ESU). NMFS is soliciting review and comment from the public and all interested parties on the Draft Plan. As part of that proposal, we provided a 60-day comment period, ending on March 5, 2012. We have received requests for an extension of the public comment period. In response to these requests, we are extending the comment period for the proposed action an additional 60 days.

DATES: Information and comments on the subject action must be received by May 4, 2012.

ADDRESSES: Please send written comments to Julie Weeder, National Marine Fisheries Service, 1655 Heindon Road Arcata, CA 95521. Comments may also be submitted by email to: SONCC.Recovery@noaa.gov. Comments may be submitted via facsimile (fax) to (707) 825-4840. Please include the following on the cover page of the fax: “Attn: Recovery Coordinator/SONCC Coho Salmon Public Draft Recovery Plan Comments.”

Persons wishing to review the Draft Plan can obtain an electronic copy (i.e., CD ROM) from Cynthia Anderson by calling (707) 825-5162 or by emailing a request to cynthia.anderson@noaa.gov with the subject line “CD ROM Request for SONCC Coho Salmon Draft Recovery Plan.” Electronic copies of the Draft Plan are also available on-line on the NMFS Web site http://swr.nmfs.noaa.gov/recovery.

FOR FURTHER INFORMATION CONTACT: Julie Weeder, Recovery Coordinator, at (707) 825-5168, email julie.weeder@noaa.gov.

SUPPLEMENTARY INFORMATION:

Background

On January 5, 2012, NMFS published a Notice of Availability of the Draft Recovery Plan for the Southern Oregon/Northern California Coast Evolutionarily Significant Unit (ESU) of Coho Salmon (Draft Plan) for public review and comment (77 FR 476). The Draft Plan addresses the Southern Oregon/Northern California Coast Coho Salmon (Oncorhynchus kisutch) Evolutionarily Significant Unit (ESU). NMFS is soliciting review and comment from the public and all interested parties on the Draft Plan. As part of that proposal, we provided a 60-day comment period, ending on March 5, 2012. Public meetings were held in Bayside, CA on January 31, Willits, CA on February 1, and Brookings, OR on February 2. Public meetings are planned for Medford, OR on February 15 and Yreka, CA on a date to be determined. The date will be posted on the NMFS Southwest Region Web site: http://swr.nmfs.noaa.gov/recovery.

NMFS received requests for an extension of the public comment period. In response to these requests, we are extending the comment period for the proposed action an additional 60 days. Information and comments must be received by May 4, 2012.

Authority: 16 U.S.C. 1531 et seq.

Dated: February 7, 2012.
Angela Somma,
Chief, Endangered Species Division, Office of Protected Resources, National Marine Fisheries Service.

[FR Doc. 2012-3176 Filed 2-9-12; 8:45 am]

BILLING CODE 3510-22-P